DEPARTMENT OF LABOR

Employment and Training Administration

Labor Certification Process for Temporary Employment of Nonimmigrant Workers in the United States (H-2B Workers); Fiscal Year 2005

AGENCY: Employment and Training Administration, Labor.

ACTION: Notice.

SUMMARY: The United States Citizenship and Immigration Services (CIS) has received a sufficient number of H-2B petitions to reach the FY 2004 cap of 66,000. The Employment and Training Administration (ETA) is publishing this notice so the public will understand application procedures for the processing of H-2B applications for FY 2005 (date of need October 1, 2004 or later). These procedures are intended to minimize confusion and burden to employers who use the H-2B program. Any employer who desires to employ an H-2B worker with a start date of need on or after October 1, 2004, must file a new ETA 750, Part A, Application for Alien Employment, with a new test of the labor market, with the U.S. Department of Labor (DOL) on or after June 1, 2004. This procedure applies to those employers who have not been able to use a currently approved labor certification due to the H-2B program cap being reached for FY 2004. This action is necessary as the availability of U.S. workers fluctuates over short periods of time and an adequate test of the labor market must be made prior to the approval of a labor certification. Current DOL policy requires employers to file their H-2B application no more than 120 days before the worker is needed thus ensuring the labor market test is reasonably current. For example, employers who filed applications with DOL after March 10, 2004, and were not approved by CIS due to the program cap being reached, will need to file new applications with the DOL no earlier than June 1, 2004, if the employer has a date of need no earlier than October 1, 2004. These applications will be handled according to current ETA policy and must include a current test of the U.S. labor market.

DATES: This notice is effective May 13, 2004.

FOR FURTHER INFORMATION CONTACT: William Carlson, Chief, Division of Foreign Labor Certification, U.S. Department of Labor, Room C-4312, 200 Constitution Avenue, NW., Washington, DC 20210. Telephone: 202-693-3010 (this is not a toll-free number).

SUPPLEMENTARY INFORMATION: The procedures described in this notice relate only to H-2B applications filed with DOL on or after June 1, 2004, for nonimmigrant workers subject to the numerical limitation (cap) for FY 2005 and who will be engaged in temporary work to commence on or after October 1, 2004.

In accordance with ETA's policy, employers may file an H-2B application at least 60 days, but not more than 120 days before the worker is needed. Therefore, employers may begin filing no earlier than June 1, 2004, for a date of need beginning October 1, 2004.

Signed at Washington, DC, this 7th day of May, 2004.
Emily Stover DeRocco,
Assistant Secretary, Employment and Training Administration.

[FR Doc. 04-10859 Filed 5-12-04; 8:45 am]

BILLING CODE 4510-30-P